DEPARTMENT OF COMMERCE

[Docket No. 161018975-6975-01]

Privacy Act of 1974, Amended System of Records

AGENCY: National Oceanic and Atmospheric Administration, U.S. Department of Commerce.

ACTION: Notice of an Amended Privacy Act System of Records: COMMERCE/NOAA-20, Search and Rescue Satellite Aided Tracking (SARSAT) 406 MHz Emergency Beacon Registration Database.

SUMMARY: In accordance with the Privacy Act of 1974, as amended, Title 5 of the United States Code (U.S.C.) sections 552a(e)(4) and (11); and Office of Management and Budget (OMB) Circular A-130, Appendix I, “Federal Agency Responsibilities for Maintaining Records About Individuals,” the Department of Commerce (Department) is issuing a notice of intent to establish an amended system of records entitled, “COMMERCE/NOAA-20, Search and Rescue Satellite Aided Tracking (SARSAT) 406 MHz Emergency Beacon Registration Database.” Amendments (updates) were made to the Addresses, Supplementary Information, Routine Uses and Storage sections.

SARSAT is responsible for keeping and maintaining a registration database for 406 MHz emergency beacons as directed by the Federal Communications Commission (FCC). This database contains personally identifiable information that is required to be protected by the Privacy Act, as amended. The purpose of this system of records is to provide search and rescue (SAR) authorities with information about the user of the beacon, such as the name, phone number, and emergency contact information. This information provides the Rescue Coordination Center (RCC) and Mission Control Center (MCC) with the identity of the individual(s) they are searching for, contact information so that the RCC can determine whether or not the beacon has been activated as the result of an actual emergency, and information about the vessel or aircraft. The registration information allows the RCC and MCC to resolve a distress case by telephone instead of wasting valuable resources responding to false alerts. Information may be provided to or received from international registration authorities to ensure registration information resides in the correct database based on the country code of the beacon or the mailing address of the beacon owner. This information allows SAR authorities to shorten response times, and it provides a way to cancel false alerts quickly and safely, thereby increasing safety for SAR authorities and decreasing costs to the government and the SAR system. The completed forms also contain personal identifiable information that is required to be protected by the Privacy Act. We invite public comment on the amended system in this publication.

DATES: To be considered, written comments must be submitted on or before February 13, 2017. Unless comments are received, the amended system of records will become effective as proposed on February 21, 2017. If comments are received, the Department will publish a subsequent notice in the Federal Register within 10 days after the comment period closes, stating that the current system of records will remain in effect until publication of a final action in the Federal Register.

ADDRESSES: Comments may be mailed to: NOAA SARSAT, NSOF E/SPO53, 1315 East West Highway, Silver Spring, MD 20910.

FOR FURTHER INFORMATION CONTACT: NOAA SARSAT, NSOF E/SPO53, 1315 East West Highway, Silver Spring, MD 20910.

SUPPLEMENTARY INFORMATION: The National Oceanic and Atmospheric Administration's (NOAA's) National Environmental Satellite, Data, and Information Service (NESDIS) is revising its system of records for SARSAT, which is required by the FCC under 47 CFR parts 80, 87, and 95 to maintain a registration for emergency beacons that operate on the 406 MHz frequency. SARSAT has not found any probable or potential adverse effects of the proposal on the privacy of individuals. To minimize the risk of unauthorized access to the system of records, electronic data will be stored securely with access password protected, two-factor authentication for internal System Administrators, and limited to those SARSAT program employees whose official duties require access.

COMMERCE/NOAA-20

System name:

Search and Rescue Satellite Aided Tracking (SARSAT) 406 MHz Emergency Beacon Registration Database.

Security classification:

None.

System Location:

U.S. Department of Commerce, National Oceanic and Atmospheric Administration (NOAA), 4231 Suitland Road, Suitland, MD 20746-4304

Categories of individuals covered by the system:

Owners of 406 MHz Emergency Position Indicating Radio Beacons (EPIRBs), 406 MHz Emergency Location Transmitters (ELTs), 406 MHz Personnel Locator Beacons (PLBs), and 406 MHz Ship Security Alerting System (SSAS) Beacons.

Categories of records in the system:

Personal Identifiable Information: Beacon Unique Identifier Number (Beacon ID), beacon category, beacon manufacturer, beacon model; owner name, owner address, owner email address, owner telephone number by home, work, cellular, and fax; and name and telephone number of primary/alternate 24-hour emergency contact. Additional categories specifically for:

a. EPIRBs and SSAS beacon registrations—vessel information including usage, type, name, color, survival and radio equipment, vessel telephone numbers with call sign, Inmarsat number, cellular and MMSI number, federal/state registration number, length, capacity, and homeport;

b. ELT registrations—aircraft information including registration (tail) number, type, manufacturer, model, color, seating capacity, radio equipment, survival equipment, principal airport; and

c. PLB registrations—general use data including usage, specific usage, and type.

Authority for maintenance of the system:

This system of records is consistent with 47 CFR parts 80, 87, and 95. The system is also authorized by the U.S. Office of Management & Budget (OMB) Control Number: OMB 0648-0295.

Purposes:

The records are maintained and used to assist search and rescue forces in carrying out their mission of rescue assistance and false alert abatement.

Routine uses of records maintained in the system, including categories of users and the purposes of such uses:

These records may be disclosed as follows:

1. A record in this system of records is used when a beacon alert is received at the United States Mission Control Center (USMCC) from a registered beacon. The information kept in the database is automatically forwarded to rescue coordination centers operated by the United States Air Force, United States Coast Guard, State Police/State SAR authority, or another foreign SARSAT Mission Control Center, should it be requested for use in a SAR case in a foreign search and rescue region. The information is used by SAR controllers as a tool to coordinate and resolve the SAR event.

2. Every two years, NOAA uses the information in the database to alert beacon owners to update and renew their registration in the database.

3. In the event that a system or records maintained by the Department to carry out its functions indicates a violation or potential violation of law or contract, whether civil, criminal or regulatory in nature, and whether arising by general statute or particular program statute or contract, or rule, regulation, or order issued pursuant thereto, or the necessity to protect an interest of the Department, the relevant records in the system of records may be referred, as a routine use, to the appropriate agency, whether Federal, state, local or foreign, charged with the responsibility of investigating or prosecuting such violation or charged with enforcing or implementing the statute or contract, or rule, regulation or order issued pursuant thereto, or protecting the interest of the Department.

4. A record from this system of records may be disclosed, as a routine use, to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

5. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

6. A record from this system of records may be disclosed, as a routine use, in the course of presenting evidence to a court, magistrate or administrative tribunal, including disclosures to opposing counsel in the course of settlement negotiations.

7. A record in this system of records may be disclosed, as a routine use, to a Member of Congress submitting a request involving an individual when the individual has requested assistance from the Member with respect to the subject matter of the record.

8. A record in this system of records which contains medical information may be disclosed, as a routine use, to the medical advisor of any individual submitting a request for access to the record under the Act and 15 CFR part 4b if, in the sole judgment of the Department, disclosure could have an adverse effect upon the individual, under the provision of 5 U.S.C. 552a(f)(3) and implementing regulations at 15 CFR 4b26.

9. A record in this system of records may be disclosed, as a routine use, to the Office of Management and Budget in connection with the review of private relief legislation as set forth in OMB Circular No. A-19 at any stage of the legislative coordination and clearance process as set forth in that Circular.

10. A record in this system of records may be disclosed, as a routine use, to the Department of Justice in connection with determining whether disclosure thereof is required by the Freedom of Information Act (5 U.S.C. 552).

11. A record in this system of records may be disclosed, as a routine use, to a contractor of the Department having need for the information in the performance of the contract, but not operating a system of records within the meaning of 5 U.S.C. 552a(m).

12. A record in this system may be transferred, as a routine use, to the Office of Personnel Management: For personnel research purposes; as a data source for management information; for the production of summary descriptive statistics and analytical studies in support of the function for which the records are collected and maintained or for related manpower studies.

13. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Department) directive. Such disclosure shall not be used to make determinations about individuals.

14. A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and to prevent, minimize, or remedy such harm.

15. A record in this system of records may be disclosed to student volunteers, individuals working under a personal services contract, and other workers who technically do not have the status of Federal employees, when they are performing work for the Department and/or its agencies, as authorized by law, as needed to perform their assigned Agency functions.

Disclosure to consumer reporting agencies:

None.

Policies and practices for storing, retrieving, accessing, retaining, and disposing of records in the system:

Storage:

Computerized database stored behind several layers of firewalls configured with the firm policy of denying all and allow only by exception, electronic storage media, and paper records. All three mediums are retained in accordance with NOAA Records Disposition Handbook, Chapter 1404-02.

Retrievability:

Records may be retrieved by unique beacon identification number, the name of beacon owner, date of submittal, vessel name, aircraft name, or aircraft tail number; however, records can be accessed by any file element or any combination thereof.

Safeguards:

Due to the sensitive information stored in the registration database, access has been granted only to a limited number of personnel in accordance with this system of records routine uses provision. This access comes in four different categories; beacon owners, system administrators, SAR users, and vessel/aircraft inspectors.

The beacon owner is granted access to his/her own registration information through the use of a user ID and an online password. Information can be accessed and updated by the beacon owner at any time.

The system administrator consists of personnel at the USMCC who maintains and operates the registration database. Access to records is through the use of a user ID and an online password.

The SAR user is limited to rescue coordination personnel responsible for SAR operations within internationally recognized SAR regions. Each SAR controller is issued a user ID and an online password. SAR controllers are given a view-only capability.

The vessel or aircraft inspector is an approved representative of a federal agency charged with inspecting vessels or aircraft which includes verifying that the emergency beacons carried onboard the vessel or aircraft are properly registered. Each inspector is issued a user ID and an online password. Inspectors are given a view-only capability.

Exceptions to the above categories can only be approved by the SARSAT Program Steering Group. Consideration for access to the database by a requesting individual/agency will be based in light of their overall contribution to the SAR mission versus balancing the individual beacon owner's right to privacy.

Retention and disposal:

NESDIS shall maintain its records in accordance with NOAA's Records Management Guide and Records Disposition Handbook, Departmental directives, and comprehensive records schedules.

System manager(s) and address:

NOAA/SARSAT, NSOF E/SPO53, 1315 East West Highway, Silver Spring, MD 20910.

Notification procedure:

Beacon owners are notified by letter once registration information has been put into the database. Every two years thereafter, beacon owners are contacted by email or letter to update their information or to confirm that their information is correct.

In accordance with the Department of Commerce regulations implementing the Privacy Act, at Title 15 of the Code of Federal Regulations, part 4, subpart B—Privacy Act, individuals interested in determining if the system contains their name should direct their Privacy Act request to the National Oceanic and Atmospheric Administration, Public Reference Facility, OFA56, 1315 East West Highway (SSMC3), Room 10730, Silver Spring, Maryland 20910.

Record access procedures:

Individuals with information in the database have the ability to review and update their own individual information on the internet at http://www.beaconregistration.noaa.gov. User ID and user password are set-up with initial Web registration or with a first visit to the Web site.

Contesting record procedures:

Individual beacon owners have access to their database file and have the ability to update or correct information. Other issues are addressed by the system manager who can be contacted at NOAA/SARSAT, NSOF E/SPO53, 1315 East West Highway, Silver Spring, MD 20910.

Record source categories:

The individual on whom the record is maintained provides information to NOAA by either the Web site or mail. Existing registrations can be updated according to the above processes, by a phone call from the beacon owner, or by rescue coordination center controllers when updated information is collected while processing a case.

Exemptions claimed for the system:

None.

Michael J. Toland,
Department of Commerce, Deputy Chief Officer, Department Privacy Act Officer.

[FR Doc. 2017-00495 Filed 1-11-17; 8:45 am]

BILLING CODE 3510-12-P